DEPARTMENT OF VETERANS AFFAIRS

Advisory Committee on Former Prisoners of War, Notice of Meeting

The Department of Veterans Affairs (VA) gives notice under the Federal Advisory Committee Act, 5 U.S.C. ch. 10, that the Advisory Committee on Former Prisoners of War will conduct a virtual meeting June 18, 2024, from 11:00 a.m.-5:00 p.m. Eastern Standard Time (EST).

Date | Time | Location | Open session
June 18, 2024 | 11:00 a.m.-5:00 p.m. (EDT) | Microsoft TEAMS Link and Call-in Information Below | Yes.

The meeting session is open to the public.

The purpose of the Committee is to advise the Secretary of Veterans Affairs on the administration of benefits under Title 38 U.S.C., for Veterans who are Former Prisoners of War (FPOW), and to make recommendations on the needs of such Veterans for compensation, health care, rehabilitation, and memorial benefits.

The agenda will include updates from VA Staff Offices on issues impacting FPOW Veterans and their families.

Limited time will be allocated at this meeting for receiving comments from the public. Any member of the public may also submit a 1-2-page commentary for the Committee's review. Any member of the public seeking additional information should contact Mr. Julian Wright, Designated Federal Officer, ACFPOW, VA, at Julian.Wright2@va.gov no later than June 14, 2024.

Any member of the public who wishes to participate in the virtual meeting may use the following Microsoft Teams Meeting Link:

Join On Your Computer or Mobile App: https://teams.microsoft.com/l/meetup-join/19%3ameeting_ZmEzMGFhZTYtOGNhYi00MDM0LTliNjMtOTY5Y2YxZDZhYjBm%40thread.v2/0?context=%7b%22Tid%22%3a%22e95f1b23-abaf-45ee-821d-b7ab251ab3bf%22%2c%22Oid%22%3a%22b857b6c6-44d8-46b4-8041-6e7d50b9890a%22%7d.

Or Call-In (audio only): Phone: +1 872-701-0185,115549546# United States, Chicago; Phone conference ID: 115 549 546#.

Dated: May 13, 2024.
Jelessa M. Burney,
Federal Advisory Committee Management Officer.

[FR Doc. 2024-10767 Filed 5-15-24; 8:45 am]

BILLING CODE P